DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On August 20, 2019, OFAC determined that the property and interests in property subject to U.S. jurisdiction of the following persons are blocked under the relevant sanctions authority listed below.

Individuals

1. CASTRO CORDERO, Natanael, Dominican Republic; DOB 08 Nov 1982; POB Santo Domingo, Dominican Republic; nationality Dominican Republic; Gender Male; Cedula No. 001-1481029-4 (Dominican Republic) (individual) [SDNTK]. Designated pursuant to section 805(b)(3) of the Foreign Narcotics Kingpin Designation Act (“Kingpin Act”), 21 U.S.C. 1904(b)(3), for being owned, controlled, or directed by, or acting for or on behalf of, Cesar Emilio PERALTA, a foreign person identified as a significant foreign narcotics trafficker pursuant to the Kingpin Act.

2. DEL ROSARIO PUENTE, Ramon Antonio (a.k.a. “TONO LENA” (Latin: “TOÑO LEÑA”)), Dominican Republic; DOB 13 Sep 1968; POB Guaymate, Dominican Republic; nationality Dominican Republic; Gender Male; Cedula No. 026-0027057-9 (Dominican Republic) (individual) [SDNTK] (Linked To: CESAR PERALTA DRUG TRAFFICKING ORGANIZATION). Designated pursuant to section 805(b)(2) of the Kingpin Act, 21 U.S.C. 1904(b)(2), for materially assisting in, or providing financial or technological support for or to, or providing goods or services in support of, the international narcotics trafficking activities of the CESAR PERALTA DRUG TRAFFICKING ORGANIZATION, a foreign person identified as a significant foreign narcotics trafficker pursuant to the Kingpin Act.

3. FERNANDEZ FLAQUER, Kelvin Enrique (a.k.a. “COTTO”), Dominican Republic; DOB 06 Dec 1977; POB Higuey, Dominican Republic; nationality Dominican Republic; Gender Male; Cedula No. 026-0088747-1 (Dominican Republic) (individual) [SDNTK] (Linked To: CESAR PERALTA DRUG TRAFFICKING ORGANIZATION). Designated pursuant to section 805(b)(2) of the Kingpin Act, 21 U.S.C. 1904(b)(2), for materially assisting in, or providing financial or technological support for or to, or providing goods or services in support of, the international narcotics trafficking activities of the CESAR PERALTA DRUG TRAFFICKING ORGANIZATION, a foreign person identified as a significant foreign narcotics trafficker pursuant to the Kingpin Act, and Ramon Antonio DEL ROSARIO PUENTE, a foreign person designated pursuant to the Kingpin Act.

4. FERNANDEZ CONCEPCION, Carlos Ariel, Dominican Republic; DOB 14 Jan 1973; POB Santo Domingo, Dominican Republic; nationality Dominican Republic; Gender Male; Cedula No. 001-1217345-5 (Dominican Republic) (individual) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

5. JAQUEZ ARAUJO, Yadher Rafael (a.k.a. “JAKE MATE”; a.k.a. “JAQUE MATE”), Dominican Republic; DOB 15 Oct 1985; POB Santo Domingo, Dominican Republic; nationality Dominican Republic; Gender Male; Cedula No. 001-1733889-7 (Dominican Republic) (individual) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

6. PERALTA, Cesar Emilio (a.k.a. “EL ABUSADOR”), Dominican Republic; DOB 30 Jan 1975; POB Distrito Nacional, Dominican Republic; nationality Dominican Republic; Gender Male; Cedula No. 001-0972783-4 (Dominican Republic) (individual) [SDNTK] (Linked To: INKUORTYN FIVE SRL; Linked To: SUPLINKA SRL; Linked To: FLOW GALLERY LOUNGE SRL; Linked To: UNLIMITED DANCE DISCOTECA SRL). Identified as a significant foreign narcotics trafficker pursuant to section 805(b)(1) of the Kingpin Act, 21 U.S.C. 1904(b)(1).

7. SANCHEZ NOLASCO, Boarnerges (a.k.a. “WARNEL”), Dominican Republic; DOB 02 Jul 1976; POB Hato Mayor, Dominican Republic; nationality Dominican Republic; Gender Male; Cedula No. 001-1595659-1 (Dominican Republic) (individual) [SDNTK] (Linked To: CESAR PERALTA DRUG TRAFFICKING ORGANIZATION). Designated pursuant to section 805(b)(2) of the Kingpin Act, 21 U.S.C. 1904(b)(2), for materially assisting in, or providing financial or technological support for or to, or providing goods or services in support of, the international narcotics trafficking activities of the CESAR PERALTA DRUG TRAFFICKING ORGANIZATION, a foreign person identified as a significant foreign narcotics trafficker pursuant to the Kingpin Act.

8. URENA MARTINEZ, Jhonan Alexander (Latin: UREÑA MARTINEZ, Jhonan Alexander), Dominican Republic; DOB 14 May 1987; POB Santo Domingo, Dominican Republic; nationality Dominican Republic; Gender Male; Cedula No. 001-1871175-3 (Dominican Republic) (individual) [SDNTK] (Linked To: CESAR PERALTA DRUG TRAFFICKING ORGANIZATION; Linked To: BARBARO RECORDS SRL). Designated pursuant to section 805(b)(2) of the Kingpin Act, 21 U.S.C. 1904(b)(2), for materially assisting in, or providing financial or technological support for or to, or providing goods or services in support of, the international narcotics trafficking activities of the CESAR PERALTA DRUG TRAFFICKING ORGANIZATION, a foreign person identified as a significant foreign narcotics trafficker pursuant to the Kingpin Act.

9. VALDEZ GARCIA, Bernardo Antonio (a.k.a. “PAPI CRIS”), Dominican Republic; DOB 31 Jan 1975; POB San Cristobal, Dominican Republic; nationality Dominican Republic; Gender Male; Cedula No. 001-1856559-7 (Dominican Republic) (individual) [SDNTK] (Linked To: CESAR PERALTA DRUG TRAFFICKING ORGANIZATION; Linked To: SOLUGA SOLUCIONES GASTRONOMICAS SRL). Designated pursuant to section 805(b)(2) of the Kingpin Act, 21 U.S.C. 1904(b)(2), for materially assisting in, or providing financial or technological support for or to, or providing goods or services in support of, the international narcotics trafficking activities of the CESAR PERALTA DRUG TRAFFICKING ORGANIZATION, a foreign person identified as a significant foreign narcotics trafficker pursuant to the Kingpin Act.

Entities

1. BARBARO RECORDS SRL (a.k.a. BARBARO RECORDS), Calle 34, Local No. 10, Los Cachorros, Cristo Rey, Santo Domingo, Distrito Nacional, Dominican Republic; Tax ID No. 131-48344-5 (Dominican Republic) [SDNTK]. Designated pursuant to section 805(b)(3) of the Kingpin Act, 21 U.S.C. 1904(b)(3), for being owned, controlled, or directed by, or acting for or on behalf of, Jhonan Alexander URENA MARTINEZ, a foreign person designated pursuant to the Kingpin Act.

2. CESAR PERALTA DRUG TRAFFICKING ORGANIZATION (a.k.a. “PERALTA DTO”), Dominican Republic [SDNTK]. Identified as a significant foreign narcotics trafficker pursuant to section 805(b)(1) of the Kingpin Act, 21 U.S.C. 1904(b)(1).

3. FLOW GALLERY LOUNGE SRL (a.k.a. FLOW GALLERY LOUNGE), Calle Juan de Morfa 87, Villa Consuelo, Santo Domingo, Dominican Republic; Tax ID No. 131-42317-5 (Dominican Republic) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

4. INKUORTYN FIVE SRL (a.k.a. LA KUORA TERRAZA; a.k.a. LA TERRAZA DE LA KUORA; a.k.a. “LA KUORA”), Calle La Guardia No. 25, Villa Consuelo, Santo Domingo, Dominican Republic; Tax ID No. 131-45973-2 (Dominican Republic) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

5. SOLUGA SOLUCIONES GASTRONOMICAS SRL (a.k.a. “AL PANINO”), Av. Abraham Lincoln, Plaza Andalucia II, Primera Planta, Local Comercial 49-A y 50-A, Santo Domingo, Distrito Nacional, Dominican Republic; Tax ID No. 131-63920-8 (Dominican Republic) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

6. SUPLINKA SRL (a.k.a. “VIP ROOM”), Av. Abraham Lincoln Esq. Independencia, Zona Universitaria, Santo Domingo, Dominican Republic; Tax ID No. 131-40246-1 (Dominican Republic) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

7. UNLIMITED DANCE DISCOTECA SRL (a.k.a. “AQUA CLUB”), Av. Ortega y Gasset No. 95, Cristo Rey, Santo Domingo, Dominican Republic; Av. Ortega y Gasset 91 Esq. Felix Evaristo Mejia, Santo Domingo, Dominican Republic; Tax ID No. 131-28035-8 (Dominican Republic) [SDNTK]. Designated pursuant to section 805(b)(3) of the Kingpin Act, 21 U.S.C. 1904(b)(3), for being owned, controlled, or directed by, or acting for or on behalf of, Cesar Emilio PERALTA, a foreign person identified as a significant foreign narcotics trafficker pursuant to the Kingpin Act.

Dated: August 20, 2019.
Andrea M. Gacki,
Director, Office of Foreign Assets Control.

[FR Doc. 2019-18186 Filed 8-22-19; 8:45 am]

BILLING CODE 4810-AL-P